DEPARTMENT OF VETERANS AFFAIRS

Agency Information Collection Activity: Interest Rate Reduction Refinancing Loan; Veterans Benefits Administration (VBA)

AGENCY: Department of Veterans Affairs.

ACTION: Notice; correction.

SUMMARY: The Department of Veterans Affairs (VA) is correcting a Notice that published in the Federal Register on March 10, 2021 under the Paperwork Reduction Act (PRA) of 1995.

FOR FURTHER INFORMATION CONTACT: Maribel Aponte, Office of Enterprise and Integration, Data Governance Analytics (008), 1717 H Street NW, Washington, DC 20006, (202) 266-4688 or email maribel.aponte@va.gov. Please refer to “OMB Control No. 2900-0386” in any correspondence.

SUPPLEMENTARY INFORMATION: On Wednesday, March 10, 2021, at 86 FR 13789, VA published a Notice which VA Form 26-8923 is used to determine Veterans eligible for an exception to pay a funding fee in connection with a VA-guaranteed loan. Lenders are required to complete VA Form 26-8923 on all interest rate reduction refinancing loans and submit the form to the Veteran no later than the third business day after receiving the Veteran's application.

Correction

The abstract is corrected to state the following:

The major use of this form is to determine the maximum permissible loan amount for interest rate reduction refinancing loans. Lenders are required to complete VA Form 26-8923, Interest Rate Reduction Refinancing Loan Worksheet, on all interest rate reduction refinancing loans and submit the form in the loan file when selected by VA for quality review.

Dated: June 24, 2021.
Dorothy Glasgow,
VA PRA Clearance Officer, (Alternate), Office of Enterprise and Integration/Data Governance Analytics, Department of Veterans Affairs.

[FR Doc. 2021-13902 Filed 6-29-21; 8:45 am]

BILLING CODE 8320-01-P